DEPARTMENT OF COMMERCE

National Oceanic and Atmospheric Administration

RIN 0648-XA092

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Habitat/MPA/Ecosystem Committee, in January, 2011, to consider actions affecting New England fisheries in the exclusive economic zone (EEZ). Recommendations from this group will be brought to the full Council for formal consideration and action, if appropriate.

DATES: This meeting will be held on Thursday, January 6, 2011 at 9 a.m.

ADDRESSES: This meeting will be held at the Courtyard by Marriott, 225 McClellan Highway, East Boston, MA 02128; telephone: (617) 569-5250; fax: (617) 561-0971.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Committee will continue to work on Omnibus EFH Amendment 2 and continue development of alternatives to protect deep-sea corals. They will also review PDT analysis of management options to minimize the adverse effects of fishing on EFH. Based on options reviewed, the Committee will develop alternatives to minimize the adverse effects of fishing on EFH. The Committee will receive an informational presentation on NOAA's Habitat Assessment Improvement Plan. Other topics may be discussed at the Chair's discretion.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: December 13, 2010.
Tracey L. Thompson,
Acting Director, Office of Sustainable Fisheries, National Marine Fisheries Service.

[FR Doc. 2010-31651 Filed 12-16-10; 8:45 am]

BILLING CODE 3510-22-P